DEPARTMENT OF ENERGY

Federal Energy Regulatory Commission

[Project No. 13212-005—Alaska]

Kenai Hydro, LLC; Notice of Availability of the Final Environmental Impact Statement for the Proposed Grant Lake Hydroelectric Project

In accordance with the National Environmental Policy Act of 1969 and the Federal Energy Regulatory Commission's (Commission) regulations, 18 CFR part 380, the Office of Energy Projects has reviewed the application for license for the proposed Grant Lake Hydroelectric Project (FERC No. 13212) and has prepared a final environmental impact statement (EIS) for the proposed project. The project would be located on Grant Lake and Grant Creek, near the community of Moose Pass, in Kenai Peninsula Borough, Alaska, and occupy 1,688.7 acres of federal lands within the Chugach National Forest, administered by U.S. Department of Agriculture, Forest Service (Forest Service).

The final EIS contains staff's evaluations of the applicant's proposal and the alternatives for licensing the proposed Grant Lake Hydroelectric. The final EIS documents the views of governmental agencies, non-governmental organizations, affected Indian tribes, the public, the license applicant, and Commission staff.

A copy of the final EIS is available for review in the Commission's Public Reference Branch, Room 2A, located at 888 First Street, NE, Washington, DC 20426. The final EIS also may be viewed on the Commission's website at http://www.ferc.gov under the eLibrary link. Enter the docket number excluding the last three digits in the docket number field to access the document. For assistance, contact FERC Online Support at FERCOnlineSupport@ferc.gov, (866) 208-3676 (toll free), or (202) 502-8659 (TTY).

You may also register online at http://www.ferc.gov/docs-filing/esubscription.asp to be notified via email of new filings and issuances related to this or other pending projects. For assistance, contact FERC Online Support.

For further information, please contact Kenneth Hogan at (202) 502-8434 or at kenneth.hogan@ferc.gov.

Dated: May 1, 2019.
Kimberly D. Bose,
Secretary.

[FR Doc. 2019-09289 Filed 5-6-19; 8:45 am]

BILLING CODE 6717-01-P